DEPARTMENT OF HEALTH AND HUMAN SERVICES

Substance Abuse and Mental Health Services Administration

Center for Substance Abuse Treatment; Notice of Meeting

Pursuant to Public Law 92-463, notice is hereby given that the Substance Abuse and Mental Health Services Administration's (SAMHSA) Center for Substance Abuse Treatment (CSAT) National Advisory Council (NAC) will meet on August 30, 2022, 12:00 p.m.-4:30 p.m. (EDT).

The meeting is open to the public and will include consideration of minutes from the SAMHSA CSAT NAC meeting of April 27, 2022, a discussion with SAMHSA leadership, and a discussion on the Office of Recovery. It will also cover updates on CSAT activities from the Office of the Director (OD); the Division of Pharmacologic Therapies (DPT); the State Opioid Response Program (SOR); the Division of State and Community Assistance (DSCA); the Division of Services Improvement (DSI), and a discussion on Behavioral Health Workforce.

The meeting will be conducted via Zoom and telephone only and registration is required to participate. Interested persons may present data, information, or views, orally or in writing, on issues pending before the Council. Presentations from the public will be scheduled at the conclusion of the meeting. Individuals interested in making oral presentations must notify the contact person, Tracy Goss, CSAT NAC Designated Federal Officer (DFO) on or before August 12, 2022. Up to three minutes will be allotted for each approved public comment as time permits. Written comments received in advance of the meeting will be considered for inclusion in the official record.

To attend virtually, submit written or brief oral comments, or request special accommodation for persons with disabilities, please register on-line at https://snacregister.samhsa.gov, or communicate with the CSAT NAC DFO (see information below).

Meeting information and a roster of Council members may be obtained by accessing the SAMHSA Committee website at https://www.samhsa.gov/about-us/advisory-councils/csat-national-advisory-council, or by contacting the DFO.

Council Name: SAMHSA's Center for Substance Abuse Treatment National Advisory Council.

Date/Time/Type: August 30, 2022, 12:00 p.m.-4:30 p.m. EDT, OPEN.

Place: SAMHSA, 5600 Fishers Lane, Rockville, Maryland 20857 (Virtual).

Contact: Tracy Goss, Designated Federal Officer, CSAT National Advisory Council, 5600 Fishers Lane, Rockville, Maryland 20857 (mail), Telephone: (240) 276-0759, Email: tracy.goss@samhsa.hhs.gov.

Dated: June 21, 2022.
Carlos Castillo,
Committee Management Officer, SAMHSA.

[FR Doc. 2022-13724 Filed 6-27-22; 8:45 am]

BILLING CODE 4162-20-P